DEPARTMENT OF HEALTH AND HUMAN SERVICES

National Institutes of Health

Center for Scientific Review; Amended Notice of Meeting

Notice is hereby given of a change in the meeting of the Cellular and Molecular Biology of the Kidney Study Section, October 4, 2010, 8 a.m. to October 5, 2010, 5 p.m., Doubletree Hotel Bethesda, 8120 Wisconsin Avenue, Bethesda, MD 20814 which was published in the Federal Register on August 24, 2010, 75 FR 52009-52010.

The meeting will be one day only October 4, 2010, from 8 a.m. to 6 p.m. The meeting location remains the same. The meeting is closed to the public.

Dated: August 30, 2010.
Jennifer S. Spaeth,
Director, Office of Federal Advisory Committee Policy.

[FR Doc. C1-2010-22119 Filed 9-2-10; 8:45 am]

BILLING CODE 4140-01-P